DEPARTMENT OF HOMELAND SECURITY

Federal Emergency Management Agency

44 CFR Part 67

[Docket No. FEMA-D-7588]

Proposed Flood Elevation Determinations

AGENCY: Federal Emergency Management Agency (FEMA), Emergency Preparedness and Response Directorate, Department of Homeland Security.

ACTION: Proposed rule.

SUMMARY: Technical information or comments are requested on the proposed Base (1% annual chance) Flood Elevations (BFEs) and proposed BFE modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA proposes to make determinations of BFEs and modified BFEs for each community listed below, in accordance with section 110 of the Flood Disaster Protection Act of 1973, 42 U.S.C. 4104, and 44 CFR 67.4(a).

These proposed base flood and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4105, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding | Location | #Depth in feet above ground. *Elevation in feet (NGVD) •Elevation in feet (NAVD): Existing | #Depth in feet above ground. *Elevation in feet (NGVD) •Elevation in feet (NAVD): Modified | Communities affected
VIRGINIA
Albemarle County
Cow Branch | At the confluence with Moores Creek | None | •333 | Albemarle County (Unincorporated Areas).
| Approximately 285 feet upstream of Mill Creek Drive | None | •439
Flat Branch | At the confluence with North Fork Rivanna River | None | •386 | Albemarle County (Unincorporated Areas).
| Approximately 4,890 feet upstream of the confluence with Flat Branch Tributary | None | •441
Flat Branch Tributary | At the confluence with Flat Branch | None | •386 | Albemarle County (Unincorporated Areas).
| Approximately 2,490 feet upstream of Lewis & Clark Drive | None | •442
Herring Branch | At the confluence with North Fork Rivanna River | None | •389 | Albemarle County (Unincorporated Areas).
| Approximately 2,530 feet upstream of private drive | None | •443
Jacobs Run | At the confluence with North Fork Rivanna River | None | •396 | Albemarle County (Unincorporated Areas).
| At the Chris Green Lake Dam | None | •396
Lickinghole Creek | Approximately 70 feet downstream of railroad bridge | •500 | •501 | Albemarle County (Unincorporated Areas).
| Approximately 150 feet upstream of Jarmans Gap Road | None | •902
North Fork Rivanna River | At the confluence with Rivanna River | •352 | •356 | Albemarle County (Unincorporated Areas).
| Approximately 1,375 feet upstream of Dickerson Road | None | •398
Powells Creek | At the confluence with Lickinghole Creek | None | •623 | Albemarle County (Unincorporated Areas).
| Approximately 320 feet upstream of Railroad Avenue | None | •786
Rivanna River | At the County boundary | None | •287 | Albemarle County (Unincorporated Areas), Independent City of Charlottesville.
| At the confluence with North Fork Rivanna River | •352 | •356
Slabtown Branch | At the confluence with Lickinghole Creek | None | •600 | Albemarle County (Unincorporated Areas).
| Approximately 3,000 feet upstream of State Route 684 | None | •766
Moores Creek | At the confluence with Rivanna River | •324 | •329 | Albemarle County (Unincorporated Areas), Independent City of Charlottesville.
| Approximately 1,300 feet downstream of State Route 20 | •331 | •330
Meadow Creek | At the confluence with Rivanna River | •343 | •345 | Albemarle County (Unincorporated Areas), Independent City of upstream of Charlottesville.
| Approximately 100 feet upstream of Rio Road | None | •358
South Fork Rivanna River | At the confluence with Rivanna River | •351 | •356 | Albemarle County (Unincorporated Areas).
| Approximately 630 feet upstream of the confluence of Powells Creek | •357 | •358
Albemarle County (Unincorporated Areas)
Maps available for inspection at the Albemarle County Engineering Office, 401 McIntire Road, Charlottesville, Virginia.
Send comments to Mr. Robert W. Tucker, Jr., Albemarle County Executive, Albemarle County Building, 401 McIntire Road, Charlottesville, Virginia 22902.
Independent City of Charlottesville
Maps available for inspection at the Charlottesville City Hall, Neighborhood Development Services, 4th Street, NW., Charlottesville, Virginia.
Send comments to The Honorable Maurice Cox, Mayor of the Independent City of Charlottesville, P.O. Box 911, Charlottesville, Virginia 22902.
VIRGINIA
Roanoke County (Unincorporated Areas)
Peters Creek Tributary A | At the confluence with Peters Creek | *1,103 | *1,106 | Roanoke County (Unincorporated Areas).
| Approximately 160 feet upstream of Timberview Road | None | *1,120
Peters Creek | Approximately 1,150 feet upstream of the confluence with Roanoke River | *969 | *968 | City of Roanoke, Roanoke County (Unincorporated Areas)
| At the confluence of Peters Creek Tributaries A and B | *1,103 | *1,106
Peters Creek Tributary B | At the confluence with Peters Creek | *1,103 | *1,106 | Roanoke County (Unincorporated Areas)
| Approximately 2,000 feet upstream of the confluence with Peters Creek | *1,124 | *1,127
Peters Creek Tributary C | Approximately 20 feet upstream of the confluence with Peters Creek | *1,027 | *1,028 | City of Roanoke, Roanoke County (Unincorporated Areas).
| Approximately 1,100 feet upstream of Embassy Drive | None | *1,088
Roanoke County (Unincorporated Areas)
Maps available for inspection at the Roanoke County Engineering Office, 5204 Bernard Drive, SW., Roanoke, Virginia.
Send comments to Mr. Elmer C. Hodge, Roanoke County Administrator, P.O. Box 29800, Roanoke, Virginia 24018.

(Catalog of Federal Domestic Assistance No. 83.100, “Flood Insurance.”)
Dated: April 7, 2004.
Anthony S. Lowe,
Mitigation Division Director, Emergency Preparedness and Response Directorate.

[FR Doc. 04-9217 Filed 4-22-04; 8:45 am]

BILLING CODE 9110-12-P